DEPARTMENT OF LABOR

Mine Safety and Health Administration

Affirmative Decisions on Petitions for Modification Granted in Whole or in Part

AGENCY: Mine Safety and Health Administration (MSHA), Labor.

ACTION: Notice.

SUMMARY: The Federal Mine Safety and Health Act of 1977 and the Code of Federal Regulations govern the application, processing, and disposition of petitions for modification. This Federal Register notice notifies the public that MSHA has investigated and issued a final decision on certain mine operator petitions to modify a safety standard.

ADDRESSES: Copies of the final decisions are posted on MSHA's website at https://www.msha.gov/regulations/rulemaking/petitions-modification. The public may inspect the petitions and final decisions during normal business hours in MSHA's Office of Standards, Regulations, and Variances, 201 12th Street South, Suite 4E401, Arlington, Virginia 22202. All visitors are required to check in at the receptionist's desk in Suite 4E401.

FOR FURTHER INFORMATION CONTACT: Barbara Barron at 202-693-9447 (phone), barron.barbara@dol.gov (email), or 202-693-9441 (fax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2016-015-C.

FR Notice: 81 FR 47423 (7/21/2016).

Petitioner: Canyon Fuel Company, LLC, HC 35, Box 380, Helper, Utah 84526.

Mine: Skyline Mine #3, MSHA I.D. No. 42-01566, located in Carbon County, Utah.

Regulation Affected: 30 CFR 75.380(d)(4) (Escapeways; bituminous and lignite mines).

• Docket Number: M-2017-006-C.

FR Notice: 82 FR 16072 (3/31/2017).

Petitioner: Tunnel Ridge, LLC, 2596 Battle Run Road, Triadelphia, West Virginia 26059.

Mine: Tunnel Ridge Mine, MSHA I.D. No. 46-08864, located in Ohio County, West Virginia.

Regulation Affected: 30 CFR 75.1002(a) (Installation of electric equipment and conductors; permissibility).

• Docket Number: M-2017-012-C.

FR Notice: 82 FR 34702 (7/26/2017).

Petitioner: The Marion County Coal Company, 151 Johnny Cake Road, Metz, West Virginia 26585.

Mine: Marion County Mine, MSHA I.D. No. 46-01433, located in Marion County, West Virginia.

Regulation Affected: 30 CFR 75.1700 (Oil and gas wells).

• Docket Number: M-2017-017-C.

FR Notice: 82 FR 48115 (10/16/2017).

Petitioner: Paramont Contura, LLC, Three Gateway Center, 401 Liberty Avenue, Pittsburgh, Pennsylvania 15222-1000.

Mine: Deep Mine 44, MSHA I.D. No. 44-07308, located in Dickenson County, Virginia.

Regulation Affected: 30 CFR 75.1700 (Oil and gas wells).

• Docket Number: M-2017-020-C.

FR Notice: 82 FR 49685 (10/26/2017).

Petitioner: Spartan Mining Company, 500 Lee Street, East, Suite 701 (25301), Post Office Box 2548, Charleston, West Virginia 25329.

Mine: Road Fork #52 Mine, MSHA I.D. No. 46-09522, located in Wyoming County, West Virginia.

Regulation Affected: 30 CFR 75.1700 (Oil and gas wells).

• Docket Number: M-2016-037-C.

FR Notice: 82 FR 16070 (3/31/2017).

Petitioner: San Juan Coal Company, P.O. Box 561, Waterflow, New Mexico 87421.

Mine: San Juan Mine 1, MSHA I.D. No. 29-02170, located in San Juan County, New Mexico.

Regulation Affected: 30 CFR 75.1506(c)(1) (Refuge alternatives).

• Docket Number: M-2016-009-M.

FR Notice: 82 FR 9234 (2/3/2017).

Petitioner: Coeur Alaska, Inc. 1700 Lincoln Street, Suite 4700, Denver, Colorado 80203.

Mine: Kensington Mine, MSHA I.D. No. 50-01544, located in Juneau County, Alaska.

Regulation Affected: 30 CFR 57.11052(d) (Refuge areas).

Sheila McConnell,
Director, Office of Standards, Regulations, and Variances.

[FR Doc. 2018-12460 Filed 6-8-18; 8:45 am]

BILLING CODE 4520-43-P